DEPARTMENT OF ENERGY

Federal Energy Regulatory Commission

[Docket No. CP10-477-000]

Southern LNG Company, LLC; Notice of Public Scoping Meeting for the Proposed LNG Truck Loading Project

January 7, 2011.

On February 2, 2011, the Office of Energy Projects staff will hold a public scoping meeting to obtain public input related to the environmental analysis of Southern LNG Company, LLC's (Southern) LNG Truck Loading Project. We scheduled this meeting to provide stakeholders an opportunity to voice comments on the additional information Southern has submitted to the Commission since the scoping meeting held on September 29, 2010. The previous scoping meeting was noticed in our September 13, 2010 Notice of Intent to Prepare an Environmental Assessment for the Proposed LNG Truck Loading Project and Request for Comments on Environmental Issues, and Notice of Public Scoping Meeting (NOI).

The public scoping meeting is scheduled as follows: LNG Truck Loading Project, February 2, 2011, 7 p.m., Savannah Civic Center Ball Room, 301 West Oglethorpe Avenue, Savannah, GA, Savannah, Georgia 31405.

This notice is being sent to the Commission's current environmental mailing list for this project. The NOI and additional information about the project is available from the Commission's Office of External Affairs, at (866) 208-FERC, or on the FERC Web site at http://www.ferc.gov using the “eLibrary” link. Click on the eLibrary link, click on “General Search” and enter the docket number, excluding the last three digits in the Docket Number field (i.e., CP10-477). Be sure you have selected an appropriate date range. For assistance, please contact FERC Online Support at FercOnlineSupport@ferc.gov or toll free at (866) 208-3676, or for TTY, contact (202) 502-8659.

Kimberly D. Bose,
Secretary.

[FR Doc. 2011-701 Filed 1-13-11; 8:45 am]

BILLING CODE 6717-01-P